Executive Order 13199 of January 29, 2001

Establishment of White House Office of Faith-Based and Community Initiatives

By the authority vested in me as President of the United States by the Constitution and the laws of the United States of America, and in order to help the Federal Government coordinate a national effort to expand opportunities for faith-based and other community organizations and to strengthen their capacity to better meet social needs in America's communities, it is hereby ordered as follows:

Section 1. Policy. Faith-based and other community organizations are indispensable in meeting the needs of poor Americans and distressed neighborhoods. Government cannot be replaced by such organizations, but it can and should welcome them as partners. The paramount goal is compassionate results, and private and charitable community groups, including religious ones, should have the fullest opportunity permitted by law to compete on a level playing field, so long as they achieve valid public purposes, such as curbing crime, conquering addiction, strengthening families and neighborhoods, and overcoming poverty. This delivery of social services must be results oriented and should value the bedrock principles of pluralism, nondiscrimination, evenhandedness, and neutrality.

Sec. 2. Establishment. There is established a White House Office of Faith-Based and Community Initiatives (White House OFBCI) within the Executive Office of the President that will have lead responsibility in the executive branch to establish policies, priorities, and objectives for the Federal Government's comprehensive effort to enlist, equip, enable, empower, and expand the work of faith-based and other community organizations to the extent permitted by law.

Sec. 3. Functions. The principal functions of the White House OFBCI are, to the extent permitted by law: (a) to develop, lead, and coordinate the Administration's policy agenda affecting faith-based and other community programs and initiatives, expand the role of such efforts in communities, and increase their capacity through executive action, legislation, Federal and private funding, and regulatory relief;

(b) to ensure that Administration and Federal Government policy decisions and programs are consistent with the President's stated goals with respect to faith-based and other community initiatives;

(c) to help integrate the President's policy agenda affecting faith-based and other community organizations across the Federal Government;

(d) to coordinate public education activities designed to mobilize public support for faith-based and community nonprofit initiatives through volunteerism, special projects, demonstration pilots, and public-private partnerships;

(e) to encourage private charitable giving to support faith-based and community initiatives;

(f) to bring concerns, ideas, and policy options to the President for assisting, strengthening, and replicating successful faith-based and other community programs;

(g) to provide policy and legal education to State, local, and community policymakers and public officials seeking ways to empower faith-based and other community organizations and to improve the opportunities, capacity, and expertise of such groups;

(h) to develop and implement strategic initiatives under the President's agenda to strengthen the institutions of civil society and America's families and communities;

(i) to showcase and herald innovative grassroots nonprofit organizations and civic initiatives;

(j) to eliminate unnecessary legislative, regulatory, and other bureaucratic barriers that impede effective faith-based and other community efforts to solve social problems;

(k) to monitor implementation of the President's agenda affecting faith-based and other community organizations; and

(l) to ensure that the efforts of faith-based and other community organizations meet high standards of excellence and accountability.

Sec. 4. Administration. (a) The White House OFBCI may function through established or ad hoc committees, task forces, or interagency groups.

(b) The White House OFBCI shall have a staff to be headed by the Assistant to the President for Faith-Based and Community Initiatives. The White House OFBCI shall have such staff and other assistance, to the extent permitted by law, as may be necessary to carry out the provisions of this order. The White House OFBCI operations shall begin no later than 30 days from the date of this order.

(c) The White House OFBCI shall coordinate with the liaison and point of contact designated by each executive department and agency with respect to this initiative.

(d) All executive departments and agencies (agencies) shall cooperate with the White House OFBCI and provide such information, support, and assistance to the White House OFBCI as it may request, to the extent permitted by law.

(e) The agencies' actions directed by this Executive Order shall be carried out subject to the availability of appropriations and to the extent permitted by law.

Sec. 5. Judicial Review. This order does not create any right or benefit, substantive or procedural, enforceable at law or equity by a party against the United States, its agencies or instrumentalities, its officers or employees, or any other person.

B

THE WHITE HOUSE,

January 29, 2001.

[FR Doc. 01-2852

Filed 1-30-01; 11:45 am]

Billing code 3195-01-P